DEPARTMENT OF DEFENSE

Office of the Secretary

[Transmittal No. 23-34]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-34, and Policy Justification.

Dated: September 18, 2024.
Aaron T. Siegel,
Alternate OSD Federal Register Liaison Officer, Department of Defense.

BILLING CODE 6001-FR-P

BILLING CODE 6001-FR-C

Transmittal No. 23-34

Notice of Proposed Issuance of Letter of Offer Pursuant to Section 36(b)(1) of the Arms Export Control Act, as amended

(i) Prospective Purchaser: Government of Norway

(ii) Total Estimated Value:

Major Defense Equipment * | $ 0 million
Other | $166 million
TOTAL | $166 million

(iii) Description and Quantity or Quantities of Articles or Services under Consideration for Purchase:

Major Defense Equipment (MDE):

None

Non-MDE:

The Government of Norway has requested continued sustainment and associated services for four (4) C-130J aircraft beyond Block 6 through 2028. Included are Joint Mission Planning Systems (JMPS); aircraft components, spare parts, consumables, and accessories; repair and return support; aircraft support and support equipment; unclassified publications and technical documentation; software delivery and support; unclassified Computer Program Identification Number (CPIN) systems; telecommunications support; minor modifications, maintenance and maintenance support; U.S. Government and contractor engineering, technical, and logistics support services; and other related elements of logistical and program support.

(iv) Military Department: Air Force (NO-D-QBV)

(v) Prior Related Cases, if any: NO-D-QAT

(vi) Sales Commission, Fee, etc., Paid, Offered, or Agreed to be Paid: None known at this time

(vii) Sensitivity of Technology Contained in the Defense Article or Defense Services Proposed to be Sold: None

(viii) Date Report Delivered to Congress: April 26, 2023

* As defined in Section 47(6) of the Arms Export Control Act.

POLICY JUSTIFICATION

Norway—C-130J Sustainment

The Government of Norway has requested continued sustainment and associated services for four (4) C-130J aircraft beyond Block 6 through 2028. Included are Joint Mission Planning Systems (JMPS); aircraft components, spare parts, consumables, and accessories; repair and return support; aircraft support and support equipment; unclassified publications and technical documentation; software delivery and support; unclassified Computer Program Identification Number (CPIN) systems; telecommunications support; minor modifications, maintenance and maintenance support; U.S. Government and contractor engineering, technical, and logistics support services; and other related elements of logistical and program support. The estimated total cost is $166 million.

This proposed sale will support the foreign policy goals and national security objectives of the United States by improving the security of a NATO Ally that is a force for political stability and economic progress in Europe.

The proposed sale will improve Norway's capability to meet current and future threats by bolstering operational readiness while enhancing air and defense capabilities with a modernized fleet. Norway already has C-130Js and will have no difficulty absorbing these articles and services into its armed forces.

The proposed sale of this equipment and support will not alter the basic military balance in the region.

The principal contractor will be Lockheed Martin, Marietta, GA. The purchaser typically requests offsets. Any offset agreement would be defined in negotiations between the purchaser and the contractor.

Implementation of this proposed sale will not require the assignment of any additional U.S. Government or contractor representatives to Norway.

There will be no adverse impact on U.S. defense readiness because of this proposed sale.

[FR Doc. 2024-21697 Filed 9-20-24; 8:45 am]

BILLING CODE 6001-FR-P